NATIONAL COUNCIL ON DISABILITY

Sunshine Act Meetings

TYPE: Quarterly Meeting.

DATES AND TIMES:

January 12, 2009, 8:30 a.m.-3 p.m.

January 13, 2009, 8:30 a.m.-5 p.m.

January 14, 2009, 8:30 a.m.-5 p.m.

LOCATION: Chaparral Suites Resort, 5001 N. Scottsdale Road, Scottsdale, AZ.

STATUS:

January 12, 2009, 8:30 a.m.-5 p.m.—Open.

January 13, 2009, 4:00 p.m.-5 p.m.—Open.

January 14, 2009, 8:00 a.m.-8:30 a.m.—Closed Executive Session.

January 14, 2009, 8:30 a.m.-5 p.m.—Open.

AGENDA: Public Comment Sessions; Emergency Preparedness Panel; and Employment; Healthcare; Reports from the Chairperson, Council Members, and the Executive Director; Strategic Planning; Unfinished Business; New Business; Announcements; Adjournment.

SUNSHINE ACT MEETING CONTACT: Mark S. Quigley, Director of External Affairs, NCD, 1331 F Street, NW., Suite 850, Washington, DC 20004; 202-272-2004 (voice), 202-272-2074 (TTY), 202-272-2022 (fax).

AGENCY MISSION: NCD is an independent federal agency and is composed of 15 members appointed by the President, by and with the advice and consent of the Senate. NCD provides advice to the President, Congress, and executive branch agencies promoting policies, programs, practices, and procedures that guarantee equal opportunity for all individuals with disabilities, regardless of the nature or severity of the disability; and to empower individuals with disabilities to achieve economic self-sufficiency, independent living, and inclusion and integration into all aspects of society.

ACCOMMODATIONS: Those needing reasonable accommodations should notify NCD immediately.

Dated: December 8, 2008.
Michael C. Collins,
Executive Director.

[FR Doc. E8-30102 Filed 12-15-08; 4:15 pm]

BILLING CODE 6820-MA-P